DEPARTMENT OF ENERGY

Federal Energy Regulatory Commission

[Docket No. TM00-1-22-004]

Dominion Transmission, Inc.; Notice of Report of Refunds

December 12, 2000.

Take notice that on November 30, 2000, Dominion Transmission, Inc. (DTI) (formerly CNG Transmission Corporation) tendered for filing its report of refunds attributable to the resolution of the captioned proceedings. DTI states that the reported refunds and billing adjustments reflect DTI's implementation of the rates contained in the Commission Order dated June 16, 2000.

DTI states that the purpose of this filing is to report refunds and billing adjustments, with associated interest, that DTI made on November 1, 2000, and November 6, 2000. DTI further states that these refunds and billing adjustments were made as a result of DTI's implementation of the Commission's orders dated June 16, 2000 and October 2, 2000, in Docket Nos. TM00-1-22-000, et al. 91 FERC ¶ 61,281 (2000) and 93 FERC ¶ 61,010 (2000).

DTI states that copies of its report and summary workpapers are being mailed to affected customers and interested state commissions.

Any person desiring to protest said filing should file a protest with the Federal Energy Regulatory Commission, 888 First Street, NE., Washington, DC 20426, in accordance with Section 385.211 of the Commission's Rules and Regulations. All such protests must be filed on or before December 19, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32082 Filed 12-15-00; 8:45 am]

BILLING CODE 6717-01-M